ENVIRONMENTAL PROTECTION AGENCY

[ER-FRL-8590-4]

Environmental Impact Statements; Notice of Availability

Responsible Agency: Office of Federal Activities, General Information (202) 564-1399 or http://www.epa.gov/compliance/nepa/.

Weekly Receipt of Environmental Impact Statements

Filed 02/02/2009 Through 02/06/2009

Pursuant to 40 CFR 1506.9.

EIS No. 20090033, Final Supplement, COE, AR, Fourche Bayou Basin Project, 1,750 Acre Bottomland Acquisition with Nature Appreciation Facilities, Development, Funding, City of Little Rock, Pulaski County, AR, Wait Period Ends: 03/16/2009, Contact: Jim Ellis 501-324-5629.

EIS No. 20090034, Draft EIS, COE, MS, PROGRAMMATIC EIS—Mississippi Coastal Improvements Program (MsCIP), Comprehensive Plan, Implementation, Hancock, Harrison and Jackson Counties, MS, Comment Period Ends: 03/30/2009, Contact: Jennifer Jacobson 251-690-2724.

Amended Notices

EIS No. 20080177, Final EIS, USN, HI, Hawaii Range Complex (HRC) Project, Preferred Alternative is 3, To Support and Maintain Navy Pacific Fleet Training, and Research, Development, Test, and Evaluation (RDT&E) Operations, Kauai, Honolulu, Maui and Hawaii Counties, HI, Contact: Jolie Harrison, at 301-713-2289. The U.S. Department of Commerce's National Oceanic and Atmospheric Administration (DOC/NOA) has adopted the U.S. Navy's FEIS #20080177 filed on 05/02/2008. DOC/NOA was a Cooperating Agency for the above project. Recirculation of the FEIS is not necessary under 40 CFR 1506.3(c).

EIS No. 20080528, Draft EIS, USN, 00, Northwest Training Range Complex (NWTRC), To Support and Conduct Current, Emerging, and Future Training and Research, Development, Test and Evaluation (RDT&E) Activities, WA, OR and CA, Comment Period Ends: 02/18/2009, Contact: Kimberly Kler 360-396-0927. Revision to FR Notice Published 12/29/2008: Extending the Comment from 2/11/2009 to 02/18/2009.

EIS No. 20080533, Draft EIS, AFS, CA, Plumas National Forest Public Motorized Travel Management, Implementation, Plumas National Forest, Plumas County, CA, Comment Period Ends: 03/13/2009, Contact: Jane Beaulieu 530-283-7742. Revision to FR Notice Published 12/29/2008: Extending Comment Period from 02/11/2009 to 03/13/2009.

EIS No. 20080542, Draft EIS, AFS, NV, Martin Basin Rangeland Project, Reauthorizing Grazing on Eight Existing Cattle and Horse Allotments: Bradshaw, Buffalo, Buttermilk, Granite Peak, Indian, Martin Basin, Rebel Creek, and West Side Flat Creek, Santa Rosa Ranger District, Humboldt-Toiyabe National Forest, NV, Comment Period Ends: 04/17/2009, Contact: Vern Keller 775-355-5356. Revision to FR Notice Published 01/02/2009: Extending Comment Period from 02/17/2009 to 04/17/2009.

Dated: February 10, 2009.
Robert W. Hargrove,
Director, NEPA Compliance Division, Office of Federal Activities.

[FR Doc. E9-3137 Filed 2-12-09; 8:45 am]

BILLING CODE 6560-50-P